DEPARTMENT OF COMMERCE

Census Bureau

Agency Information Collection Activities; Submission to the Office of Management and Budget (OMB) for Review and Approval; Comment Request; Annual Wholesale Trade Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 3, 2020 during a 60-day comment period. This notice allows for an additional 30 days for public comments.

Agency: U.S. Census Bureau.

Title: Annual Wholesale Trade Survey.

OMB Control Number: 0607-0195.

Form Number(s): SA-42A, SA-42A-MSBO, SA-42A-AGBR.

Type of Request: Regular submission. Request for a Revision of a Currently Approved Collection.

Number of Respondents: 7,743.

Average Hours per Response: 1 hour and 16 minutes.

Burden Hours: 9,846.

Needs and Uses: The Annual Wholesale Trade Survey (AWTS) covers employer firms with establishments located in the United States and classified in the wholesale trade sector, as defined by the North American Industry Classification System (NAICS). There are two main types of wholesalers in the wholesale trade sector: (1) Merchant wholesalers and (2) agents, brokers, and electronic markets. Merchant wholesalers sell goods on their own account. This category includes sales offices and sales branches (except retail stores) maintained by manufacturing, refining, or mining enterprises apart from their plants or mines for the purpose of marketing their products. Agents, brokers, and electronic markets, on the other hand, arrange sales and purchases for others (generally for a commission or fee).

Respondents are further separated into the following three type of operation categories: Merchant wholesalers, excluding manufacturers' sales branches and offices; manufacturers' sales branches and offices; and agents, brokers, and electronic markets. The firms are instructed to submit their information to the Census Bureau via Centurion, the Census Bureau's online reporting instrument. The AWTS requests data on a variety of topics. A firm's type of operation classification dictates which particular subset of data items it will receive.

In response to a request from the Bureau of Economic Analysis (BEA), the AWTS will also collect annual detailed operating expenses and annual sales tax information during survey year 2022. Respondents are only asked to provide data for these two items in years ending in “2” and “7”, which coincide with the Economic Census collection. Merchant wholesalers, excluding manufacturers' sales branches and offices, will receive the detailed operating expenses and sales tax questions. Conversely, manufacturers' sales branches and offices will only see the sales tax question. Companies that fall under the agents, brokers, and electronic markets category will not be asked to provide detailed operating expenses or sales tax information.

This survey provides an official, continuous measure of wholesale activity in the United States. Government agencies, private businesses, and researchers utilize the estimates generated from the AWTS in a variety of ways, including to conduct market analysis and forecast future demand.

From survey year 2016 through survey year 2019, there were five electronic form types (SA-42, SA-42A, SA-42A-MSBO, SA-42-AGBR, and SA-42A-AGBR). Starting with survey year 2020 (which will be collected in 2021), there will only be three electronic form types (SA-42A, SA-42A-MSBO, and SA-42A-AGBR). SA-42 and SA-42-AGBR are being removed to streamline data collection operations and reduce respondent burden.

Each year, estimates generated from the AWTS are released to the public approximately 14 months after the reference period has concluded. These national-level estimates are published (for the various items collected) by NAICS code and type of operation. (The current sample was selected on a 2012 NAICS basis, so the estimates are also released on a 2012 NAICS basis. Data will not be published on a 2017 NAICS basis until the next sample revision occurs, which will not take place during this three-year clearance window.) The data are currently disseminated through the AWTS website. In the future, however, the data will be released via the Census Bureau's dissemination platform, data.census.gov. The survey year 2020 data products are scheduled to be released through data.census.gov.

The Census Bureau issued a pre-submission notice that was published in the Federal Register on Wednesday, June 3, 2020 (Vol. 85, No. 107). The notice, which was located on pages 34174 and 34175, stated that the AWTS was considering the addition of questions related to the impact coronavirus disease 2019 (COVID-19) had on firms for survey year 2020. After internal discussions, the Census Bureau decided it will not include COVID-19 questions on the AWTS.

The AWTS serves as a benchmark for the estimates produced from the Census Bureau's Monthly Wholesale Trade Survey (MWTS) [OMB No. 0607-0190].

Externally, the BEA uses the data to estimate the change in the private inventories component of gross domestic product (GDP) and output in both the benchmark and annual input-output (I-O) accounts and the GDP by industry statistics. This agency also utilizes the sales tax information to prepare estimates of GDP by industry and to derive industry output for the I-O accounts. The data on detailed operating expenses are used to produce national estimates of value added, gross output, and intermediate inputs and serve as a benchmark for the annual industry accounts, which provide the control totals for the GDP by state accounts.

The Bureau of Labor Statistics (BLS) utilizes the data as an input to its producer price indices and in developing productivity measurements.

Other government agencies, researchers, and businesses also use the data for a variety of reasons. For example, private businesses utilize the estimates in computing business activity indices. Additionally, the AWTS data are used to conduct economic market analysis, forecast future demand, and evaluate company performance.

Affected Public: Business or other for-profit organizations.

Frequency: Annually.

Respondent's Obligation: Mandatory.

Legal Authority: The Census Bureau conducts this survey under the authority of Title 13, United States Code, Sections 131 and 182. Sections 224 and 225 make this survey mandatory.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0195.

Sheleen Dumas,
Department PRA Clearance Officer, Office of the Chief Information Officer, Commerce Department.

[FR Doc. 2020-19987 Filed 9-9-20; 8:45 am]

BILLING CODE 3510-07-P